DEPARTMENT OF LABOR

Employment and Training Administration

[TA-W-63,973]

Steelcase, Inc., Global Headquarters, Grand Rapids, MI; Notice of Termination of Investigation

Pursuant to Section 221 of the Trade Act of 1974, as amended, an investigation was initiated on September 3, 2008, in response to a petition filed by a state agency representative on behalf of workers of Steelcase, Inc., Global Headquarters, Grand Rapids, Michigan.

The petitioner has requested that the petition be withdrawn. Consequently, the investigation has been terminated.

Signed at Washington, DC, this 15th day of September 2008.
Linda G. Poole,
Certifying Officer, Division of Trade Adjustment Assistance.

[FR Doc. E8-22405 Filed 9-23-08; 8:45 am]

BILLING CODE 4510-FN-P